DEPARTMENT OF ENERGY

Federal Energy Regulatory Commission

[Docket No. EC02-8-001]

Metro Energy, L.L.C.; Notice of Filing

December 26, 2001.

Take notice that on December 14, 2001, Metro Energy, L.L.C. (Metro Energy), filed with the Federal Energy Regulatory Commission (Commission) an amendment to an application pursuant to section 203 of the Federal Power Act (16 U.S.C. 842b) and part 33 of the Commission's Regulations, originally filed on October 18, 2001 (Application). The Commission granted the authorizations requested in the Application by letter order dated November 16, 2001.

The purpose of this amendment is to reflect a change in one of the conditions stated in the Application and the Letter Order. The change, which affects the manner in which Metro Energy satisfies the regulation prong of the public interest test under Section 203 of the Federal Power Act and Section 33.2(g) of the Commission's Regulations, is that Metro Energy will not cancel its market-based rate tariff, and wishes to have the option to continue its authorization to operate as a wholesale power marketer after the transfer of ownership of the Project to the County.

Any person desiring to be heard or to protest such filing should file a motion to intervene or protest with the Federal Energy Regulatory Commission, 888 First Street, NE., Washington, DC 20426, in accordance with rules 211 and 214 of the Commission's rules of practice and procedure (18 CFR 385.211 and 385.214). All such motions and protests should be filed on or before the comment date. Protests will be considered by the Commission to determine the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Comment Date: January 9, 2002.

Linwood A. Watson, Jr.,
Acting Secretary.

[FR Doc. 01-32181 Filed 12-31-01; 8:45 am]

BILLING CODE 6717-01-P